DEPARTMENT OF ENERGY

Federal Energy Regulatory Commission

[Docket No. CP19-1-000]

Notice of Schedule for Environmental Review of the Palmyra to Ogden A-Line Project; Northern Natural Gas Company

On October 3, 2018, Northern Natural Gas Company (Northern) filed an application in Docket No. CP19-1-000 requesting a Certificate of Public Convenience and Necessity pursuant to section 7(b) of the Natural Gas Act to abandon certain natural gas pipeline facilities. The proposed project is known as the Palmyra to Ogden A-Line Project (Project), and would allow Northern to abandon approximately 146.6 miles of 24-inch-diameter pipeline to provide for safer long-term operation of the mainline.

On October 17, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA May 13, 2019

90-day Federal Authorization Decision Deadline August 11, 2019

If a schedule change becomes necessary, additional notice will be provided so that the relevant agencies are kept informed of the Project's progress.

Project Description

Northern proposes to isolate and abandon by sale to DKM Enterprises, LLC (DKM) approximately 146.6 miles of 24-inch-diameter pipeline on Northern's M580A and M530A system (collectively referred to as the A-line) in Otoe and Cass counties in Nebraska, and Mills, Pottawattamie, Cass, Audubon, Guthrie, Greene, and Boone counties in Iowa. Northern indicates that DKM intends to salvage the abandoned pipeline.

To abandon the pipeline, Northern would disconnect and cap the A-line at five interconnections where it is linked to other system facilities. Ground disturbances would be limited to one location in Otoe County, Nebraska, and four locations in Mills, Guthrie, and Boone (two locations) counties, Iowa, where the A-line would be disconnected from Northern's existing pipeline system.

Background

On November 14, 2018 the Commission issued a Notice of Intent to Prepare an Environmental Assessment for the Proposed Palmyra to Ogden A-Line Project and Request for Comments on Environmental Issues (NOI). The NOI was sent to affected landowners; federal, state, and local government agencies; elected officials; Native American tribes; other interested parties; and local libraries and newspapers. Comments on the NOI should be received by the Commission in Washington, DC on or before 5:00 p.m. Eastern Time on December 14, 2018. All substantive comments filed in the Commission's public record will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-1), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 7, 2018.
Nathaniel J. Davis, Sr.,
Deputy Secretary.

[FR Doc. 2018-26948 Filed 12-12-18; 8:45 am]

BILLING CODE 6717-01-P